DEPARTMENT OF AGRICULTURE

Rural Business-Cooperative Service

Notice of Funds Availability (NOFA) for the Rural Microentrepreneur Assistance Program for Fiscal Year 2015

AGENCY: Rural Business-Cooperative Service, USDA.

ACTION: Notice.

SUMMARY: This Notice is to invite applications for loans and grants under the Rural Microentrepreneur Assistance Program (RMAP) pursuant to 7 CFR part 4280, subpart D, for fiscal year (FY) 2015. Funding to support $14.190 million in loans and $2.086 million in grants is currently available. The RMAP funds were provided through the Agricultural Act of 2014, Public Law 113-79, on February 7, 2014 (2014 Farm Bill). RMAP provides the following types of support: loan only, combination loan and technical assistance grant, and subsequent technical assistance grants to Microenterprise Development Organizations (MDO).

All applicants are responsible for any expenses incurred in developing their applications or costs incurred prior to the obligation date.

DATES: Applicants may apply during a Federal fiscal quarter to be considered for the next quarter's funding. Complete applications for loan only, and combination loan and grant, must be received in the U.S. Department of Agriculture (USDA) Rural Development State Offices no later than 4:30 p.m. (local time) on the last day prior to the beginning of each Federal fiscal quarter to be considered for funding. Applications received after a Federal fiscal quarter deadline will be reviewed and evaluated for funding in the next Federal fiscal quarter. Applications that have not competed for four consecutive quarters, depending on funding availability, may be considered in FY 2016.

The subsequent microlender technical assistance grant (existing MDOs with a microentrepenuer revolving loan fund) will be made, non-competitively, based on the microlender's microlending activity and availability of funds. To determine the microlender technical assistance grant awards for FY 2015, the Agency will use the microlender's outstanding balance of microloans as of June 30, 2015, to calculate this amount. MDOs that are eligible for an annual grant may apply.

ADDRESSES: Applications and forms may be obtained from any Rural Development State Office or online at http://www.rd.usda.gov/programs-services/rural-microentrepreneur-assistance-program. Applicants must submit an original complete application to the USDA Rural Development State Office in the State where the applicant's headquarters is located. A list of the USDA Rural Development State Offices addresses and telephone numbers can be found online at http://www.rurdev.usda.gov/StateOfficeAddresses.html.

FOR FURTHER INFORMATION CONTACT: Specialty Programs Division, Rural Business-Cooperative Service, United States Department of Agriculture, 1400 Independence Avenue SW., MS 3226, Room 4204-South, Washington, DC 20250-3226, or call Kathleen Goldsmith at 202-720-1400.

Overview

Solicitation Opportunity Title: Rural Microentrepreneur Assistance Program.

Announcement Type: Initial Announcement.

Catalog of Federal Domestic Assistance Number (CFDA): 10.870.

Dates: Applicants may apply during a Federal fiscal quarter to be considered for the next quarter's funding. Complete applications for loan only, combination loan and grant, and technical assistance grant-only must be received in the USDA Rural Development State Offices no later than 4:30 p.m. (local time) on the last day prior to the beginning of each Federal fiscal quarter to be considered for funding. Applications received after a Federal fiscal quarter deadline will be reviewed and evaluated for funding in the next Federal fiscal quarter. Applications that have not competed for four consecutive quarters, depending on funding availability, may be considered in FY 2016.

Subsequent microlender annual technical assistance grants are non-competitive. The Agency has established June 30 of each year as the date to determine the grant amount using the MDO's outstanding balance of microloans as of that date.

I. Funding Opportunity Description

A. Purpose of the Program. The purpose of RMAP is to support the development and ongoing success of rural microentrepreneurs and microenterprises defined in 7 CFR 4280.302.

B. Statutory Authority. RMAP is authorized by Section 379E of the Consolidated Farm and Rural Development Act (7 U.S.C. 2008s). Regulations are contained in 7 CFR part 4280, subpart D. Assistance provided to rural areas under this program may include the provision of loans and grants to rural MDOs for the provision of microloans to rural microenterprises and microentrepreneurs; provision of business-based training and technical assistance to rural microborrowers and potential microborrowers; and other such activities as deemed appropriate by the Secretary to ensure the development and ongoing success of rural microenterprises. Awards are made on a competitive basis using specific selection criteria contained in 7 CFR part 4280, subpart D. Information required to be in the application is specified in 7 CFR 4280.315.

For entities applying for program loan funds to become an RMAP microlender only, the following items are required: (1) Form RD 1910-11, “Certification of No Federal Debt;” (2) Demonstration that the applicant is eligible to apply to participate in this program; (3) Certification by the applicant that it cannot obtain sufficient credit elsewhere to fund the activities called for under this program with similar rates and terms; and (4) Form RD 400-4, “Assurance Agreement.”

Subsequent annual microlender technical assistance grants are subject to funding availability, in accordance with 7 CFR 4280.313(b)(2). Awards will be determined non-competitively based on Agency appropriations for the fiscal year. The MDO must submit a prescribed worksheet, listing the outstanding balance of their microloans and unexpended grant funds as of the date of their request and a letter certifying that their organization still meets all the requirements set forth in 7 CFR part 4280, subpart D, and that no significant changes have occurred within the last year that would affect its ability to carry out the MDO functions. In addition, all MDOs who request Subsequent Annual Microlender Technical Assistance Grants must complete their reporting into the Lenders Interactive Network Connection (LINC) for the Federal fiscal quarter ending June 30, 2015. The deadline for reporting into LINC and requesting a TA grant is no later than 4:30 p.m. (local time) on July 31, 2015.

C. Definition of Terms. The definitions applicable to this Notice are published at 7 CFR 4280.302.

D. Application Awards. The Agency will review, evaluate, and score applications received in response to this Notice based on the provisions found in 7 CFR part 4280, subpart D, and as indicated in this Notice. However, the Agency advises all interested parties that the applicant bears the burden in preparing and submitting an application in response to this Notice whether or not funding is appropriated for this program in FY 2015.

II. Award Information

Type of Awards: Loans and/or Grants.

Fiscal Year Funds: FY 2015.

Available Funds. Anyone interested in submitting an application for funding under this program is encouraged to consult the Rural Development Web Newsroom Web site at http://www.rd.usda.gov/newsroom/notices-solicitation-applications-nosas for funding information. Funds will be prioritized as follows: (1) Combination loan and grants; (2) loan only; and (3) subsequent microlender technical assistance grants.

Total Funds: $16,276,000.

Loans: $14,190,000.

MDO Grants: $2,086,000.

Maximum Award: The minimum loan amount Microenterprise Development Organizations (MDO) may borrow under this program is $50,000. The maximum loan any MDO may borrow in any given year is $500,000. The commitment of program dollars will be made to applicants of selected responses that have fulfilled the necessary requirements for obligation. If the applicant is applying for an initial loan, they may also apply for a technical assistance grant. Grant funds are limited to no more than 25 percent up to the first $400,000 of the loan request (or $100,000). Loan requests of greater than $400,000 are eligible to receive $100,000, plus 5 percent of the amount over $400,000.

The maximum subsequent technical assistance grant (to MDOs that have an existing microentrepeneur revolving loan fund) amount for a microlender is 25 percent of the first $400,000 of outstanding microloans owed to the microlender under this program, plus an additional 5 percent of the outstanding loan amount owed by the microborrowers to the lender under this program over $400,000 up to and including $2.5 million. Any grant dollars obligated, but not spent, from the initial grant, will be subtracted from the subsequent year grant to ensure that obligations cover only microloans made and active.

Application Dates: The last day of each Federal fiscal quarter.

III. Eligibility Information

A. Eligible Applicants. To be eligible for this program, the applicant must meet the eligibility requirements in 7 CFR 4280.310. In addition to the requirements in 7 CFR 4280.310, applicants must not be delinquent on any Federal debt or otherwise disqualified from participation in this program to be eligible to apply. All other restrictions in this Notice will apply.

B. Cost Sharing or Matching. The Federal share of the eligible project cost of a microborrower's project funded under this Notice shall not exceed 75 percent. The cost share requirement shall be met by the microlender in accordance with the requirements specified in 7 CFR 4280.311(d).

The MDO is required to provide a match of not less than 15 percent of the total amount of the grant in the form of matching funds, indirect costs, or in-kind goods or services.

C. Other Eligibility Requirements. Applications will only be accepted from eligible MDOs. Eligible MDOs must score a minimum of 70 points out of 100 points to be considered to receive an award. Awards for each Federal fiscal quarter will be based on ranking with the highest ranking applications being funded first, subject to available funding.

D. Completeness Eligibility. All applications must be submitted as a complete application, in one package. Applications will not be considered for funding if they do not provide sufficient information to determine eligibility or are unbound, falling apart, or otherwise not suitable for evaluation. Such applications will be withdrawn.

IV. Fiscal Year 2015 Application and Submission Information

A. Address to Request Application Package: For further information, entities wishing to apply for assistance should contact the Rural Development State Office as identified in the ADDRESSES section of this Notice to obtain copies of the application package.

An MDO may submit an initial application for a loan with a microlender technical assistance grant, or an initial or subsequent loan-only (without a microlender technical assistance grant). Loan applications must be submitted in paper format and must be bound in a 3-ring binder and be organized in the same order set forth in 7 CFR 4280.315. To ensure timely delivery, applicants are strongly encouraged to submit their applications using an overnight, express, or parcel delivery service.

B. Content and Form of Submission: An application must contain all of the required elements outlined in 7 CFR 4280.315. Each application must address the applicable scoring criteria presented in 7 CFR 4280.316 for the type of funding being requested.

C. Submission Dates and Times: The original complete application must be received by the USDA Rural Development State Office no later than 4:30 p.m. local time by the application deadline dates listed above, regardless of the postmark date, in order to be considered for funds available in that Federal fiscal quarter.

Unless withdrawn by the applicant, completed applications that receive a score of at least 70 (the minimum required to be considered for funding), but have not yet been funded, will be retained by the Agency for consideration in subsequent reviews through a total of four consecutive quarterly reviews. Applications that remain unfunded after four quarterly reviews, including the initial quarter in which the application was competed, will not be considered further for an award.

D. Explanation of Dates: Applications must be in the USDA Rural Development State Office by the dates as indicated in the DATES section of this Notice.

V. Application Review Information

A. Criteria. All eligible and complete applications will be evaluated and scored based on the selection criteria and weights contained in 7 CFR part 4280, subpart D. Failure to address any one of the criteria by the application deadline will result in the application being determined ineligible and the application will not be considered for funding. An application must receive at least 70 points to be considered for funding in the quarter in which it is scored.

B. Review and Selection Process. The State Offices will review applications to determine if they are eligible for assistance based on requirements contained in 7 CFR part 4280, subpart D. If determined eligible, the application will be submitted to the National Office, where it will be reviewed and prioritized by ranking each application, received in that quarter, in highest to lowest score order. All applications will be funded until funds have been exhausted for each funding cycle. Funding of projects is subject to the MDO's satisfactory submission of the additional items required by that subpart and the USDA Rural Development Letter of Conditions.

VI. Award Administration Information

A. Award Notices. Successful applicants will receive notification for funding from the USDA Rural Development State Office. Applicants must comply with all applicable statutes and regulations before the award will be approved. Provided the application and eligibility requirements have not changed, an application not selected will be reconsidered for three subsequent funding competitions for a total of four competitions. If an application is withdrawn, it can be resubmitted and will be evaluated as a new application. Unsuccessful applications will receive notification by mail, detailing why the application was unsuccessful.

B. Administrative and National Policy Requirements. Additional requirements that apply to MDO's selected for this program can be found in 7 CFR part 4280, subpart D. The USDA and the Agency have adopted the USDA grant regulations at 2 CFR chapter IV. This regulation incorporates the new Office of Management and Budget (OMB) regulations 2 CFR 200 and 2 CFR 400.1 to 400.18 for monitoring and servicing RMAP funding.

C. Reporting. In addition to any reports required by 2 CFR 200 and 2 CFR 400.1 to 400.18, the MDO must provide reports as required by 7 CFR part 4280, subpart D.

VII. Agency Contacts

For general questions about this Notice, please contact your USDA Rural Development State Office as provided in the ADDRESSES section of this Notice.

VIII. Paperwork Reduction Act

In accordance with the Paperwork Reduction Act of 1995, the information collection requirements associated with the Rural Microentrepenuer Assistance Program, as covered in this Notice, has been approved by the Office of Management and Budget (OMB) under OMB Control Number 0570-0062.

IX. Federal Funding Accountability and Transparency Act

All applicants, in accordance with 2 CFR part 25, must have a Dun and Bradstreet Data Universal Number System (DUNS) number, which can be obtained at no cost via a toll-free request line at (866) 705-5711 or online at http://fedgov.dnb.com/webform. Similarly, all applicants for grants must be registered in the System for Award Management (SAM) prior to submitting an application. Applicants may register for the SAM at http://www.sam.gov. All recipients of Federal financial assistance are required to report information about first-tier sub-awards and executive total compensation in accordance with 2 CFR part 170.

X. Nondiscrimination Statement

The U.S. Department of Agriculture (USDA) prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by the Department. (Not all prohibited bases will apply to all programs and/or employment activities.)

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442, or email at program.intake@usda.gov.

Individuals who are deaf, hard of hearing, or have speech disabilities and who wish to file either an EEO or program complaint, please contact USDA through the Federal Relay Service at (800) 877-8339 or (800) 845-6136 (in Spanish).

Persons with disabilities, who wish to file a program complaint, please see information above on how to contact us by mail directly or by email. If you require alternative means of communication for program information (e.g., Braille, large print, audiotape, etc.), please contact USDA's TARGET Center at (202) 720-2600 (voice and TDD).

Dated: June 10, 2015.
Lillian E. Salerno,
Administrator, Rural Business-Cooperative Service.

[FR Doc. 2015-15193 Filed 6-18-15; 8:45 am]

BILLING CODE 3410-XY-P